DEPARTMENT OF LABOR

Employment and Training Administration

[TA-W-40,595]

Elkem Metals Company, Alloy, West Virginia; Notice of Termination of Investigation

Pursuant to Section 221 of the Trade Act of 1974, an investigation was initiated on January 22, 2002 in response to a worker petition which was filed by Paper, Allied-Industrial, Chemical and Energy Workers International Union, Local 5-89 on behalf of workers at Elkem Metals Company, Alloy, West Virginia.

The petitioner has requested that the petition be withdrawn. Consequently, further investigation in this case would serve no purpose, and the investigation has been terminated.

Dated: Signed in Washington, D.C. this 5th day of March, 2002.
Linda G. Poole,
Certifying Officer, Division of Trade Adjustment Assistance.

[FR Doc. 02-7599 Filed 3-28-02; 8:45 am]

BILLING CODE 4510-30-M